ENVIRONMENTAL PROTECTION AGENCY

[EPA-HQ-RCRA-2012-0757; FRL-9528-4]

Agency Information Collection Activities; Submission to OMB for Review and Approval; Comment Request; Part B Permit Application, Permit Modifications, and Special Permits (Renewal)

AGENCY: Environmental Protection Agency (EPA).

ACTION: Notice.

SUMMARY: The Environmental Protection Agency has submitted an information collection request (ICR), Part B Permit Application, Permit Modifications, and Special Permits (EPA ICR No. 1573.13, OMB Control No. 2050-0009) to the Office of Management and Budget (OMB) for review and approval in accordance with the Paperwork Reduction Act (44 U.S.C. 3501 et seq.). This is a proposed extension of the ICR, which is currently approved through February 28, 2012. Public comments were previously requested via the Federal Register (77 FR 65875) on October 31, 2012 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before March 25, 2013.

ADDRESSES: Submit your comments, referencing Docket ID No. EPA-HQ-RCRA-2012-0757, to (1) EPA, either online using www.regulations.gov (our preferred method), or by email to rcra-docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Peggy Vyas, Office of Resource Conservation and Recovery (mail code 5303P), Environmental Protection Agency, 1200 Pennsylvania Ave. NW., Washington, DC 20460; telephone number: 703-308-5477; fax number: 703-308-8433; email address: vyas.peggy@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Abstract: Section 3005 of Subtitle C of RCRA requires treatment, storage or disposal facilities (TSDFs) to obtain a permit. To obtain the permit, the TSDFs must submit an application describing the facility's operation. There are two parts to the RCRA permit application—Part A and Part B. Part A defines the processes to be used for treatment, storage, and disposal of hazardous wastes; the design capacity of such processes; and the specific hazardous wastes to be handled at the facility. Part B requires detailed site specific information such as geologic, hydrologic, and engineering data. In the event that permit modifications are proposed by the applicant or EPA, modifications must conform to the requirements under Sections 3004 and 3005.

Form Numbers: None.

Respondents/affected entities: Business or other for-profit; as well as State, Local, or Tribal governments.

Respondent's obligation to respond: Mandatory (RCRA 3005).

Estimated number of respondents: 67.

Frequency of response: On occasion.

Total estimated burden: 23,669 hours per year. Burden is defined at 5 CFR 1320.03(b).

Total estimated cost: $3,996,222 (per year), includes $2,791,804 annualized capital or operation & maintenance costs.

Changes in the Estimates: There is decrease of 9,591 hours in the total estimated respondent burden compared with the ICR currently approved by OMB. This decrease is due to the smaller number of affected facilities.

John Moses,
Director, Collection Strategies Division.

[FR Doc. 2013-03958 Filed 2-20-13; 8:45 am]

BILLING CODE 6560-50-P